DEPARTMENT OF JUSTICE

[OMB 1140-0011]

Agency Information Collection Activities; Proposed eCollection eComments Requested; Title: Application To Make and Register NFA Firearm, ATF Form 5320.1 (“Form 1”)

AGENCY: Bureau of Alcohol, Tobacco, Firearms, and Explosives; Department of Justice.

ACTION: 30-Day notice.

SUMMARY: The Department of Justice (DOJ), Bureau of Alcohol, Tobacco, Firearms, and Explosives (ATF), will be submitting the following information collection request to the Office of Management and Budget (OMB) for review and approval in accordance with the Paperwork Reduction Act of 1995.

DATES: ATF encourages comments on this information collection. You may submit written comments for 30 days, until midnight on December 1, 2025.

ADDRESSES: Submit written comments and recommendations for this information collection to the following website: www.reginfo.gov/public/do/PRAMain. Find this particular information collection by selecting “Currently under 30-day Review—Open for Public Comments” or by using the search function and entering either the title of the information collection or the OMB control number: 1140-0015.

FOR FURTHER INFORMATION CONTACT: If you have questions, or need a copy of the proposed information collection instrument with instructions or additional information, please contact: Meghan Tisserand, Division Staff, National Firearms Act Division, either by mail at National Firearms Act Division; Division Staff Office; 244 Needy Road, Martinsburg, WV 25405, by email at Meghan.tisserand@atf.gov, or by telephone at 304-616-3219.

SUPPLEMENTARY INFORMATION: The proposed information collection was previously published in the Federal Register, 90 FR 38508, on Friday, August 8, 2025, allowing a 60-day comment period. We encourage written comments and suggestions from the public and affected agencies concerning the proposed information collection. Your comments should address one or more of the following four points:

—Evaluate whether the proposed information collection is necessary to properly perform ATF's functions, including whether the information will have practical utility;

—Evaluate the agency's estimate of the proposed information collection's burden for accuracy, including validity of the methodology and assumptions used;

—Evaluate whether, and if so, how, the quality, utility, and clarity of the collected information can be enhanced; and

—Minimize the information collection's burden on those who are to respond, including using appropriate automated, electronic, mechanical, or other technological collection techniques or other forms of information technology, e.g., permitting people to submit electronic responses.

You may view this information collection request at www.reginfo.gov. Follow the instructions to view Department of Justice information collections currently under review by OMB and look for 1140-0015.

DOJ seeks PRA authorization for this information collection for three years. OMB authorization for an ICR cannot be for more than three years without renewal. DOJ notes that information collection requirements submitted to OMB for existing ICRs receive a month-to-month extension while they undergo review.

Overview of This Information Collection

1. Type of information collection: revising a previously approved collection.

2. Title of the form/collection: Application to Make and Register NFA Firearm.

3. Agency form number, if any, and the applicable component of the Department of Justice sponsoring the collection: ATF Form 5320.1.

Component: Bureau of Alcohol, Tobacco, Firearms, and Explosives; U.S. Department of Justice.

4. Affected public who will be asked or required to respond, as well as a brief abstract: Affected public: state, local, and tribal governments, individuals or households, private sector-for or not for profit institutions, federal government.

Abstract: Any person other than a qualified manufacturer who wishes to make and register an NFA firearm must submit a written application to ATF on a form prescribed by ATF. 26 U.S.C. 5822. They must also identify the firearm they are making, themself as the maker, and, if an individual, must include their fingerprints and a photograph with the application. In 27 CFR 479.62, ATF prescribed ATF Form 5320.1 (“Form 1”), Application to Make and Register NFA Firearm, for these required purposes.

5. Obligation to respond: the obligation to respond is required to obtain/retain a benefit.

6. Total estimated number of respondents: 148,975 respondents.

7. Estimated time per respondent: 12 minutes.

8. Frequency: once annually.

9. Total estimated annual time burden: 29,795 hours.

10. Total estimated annual other costs burden: $685,285.

Revisions to This Information Collection

Information Collection (IC) OMB 1140-0011 is being revised to reflect an increase in the number of applicants per year, rising from 25,716 applicants during the last renewal to 148,975, an increase of 123,259. However, there has also been a decrease in the time burden due to changes in technology allowing electronic forms, reducing the number of respondents who must provide fingerprints and reducing the number of copies, allowing electronic fingerprints on-site, reducing respondents who must provide photographs, allowing cell phone photographs, and allowing photocopied identification cards instead, all submitted electronically. In addition, the requirement to complete an extra copy of the form and submit it to local law enforcement is going away, and the fillable forms have made it possible to populate the second copy at the same time as the first copy, both of which reduce the time burden even more. As a result, there has been a corresponding decrease in the burden hours per respondent, from .5 hours to .2 hours each, resulting in a combined reduction in total annual burden hours from 102,808 to 29,795 (a decrease of 73,013 hours).

The Department is also making the following changes to ATF Form 5320.1 (“Form 1”) due to statutory changes to the transfer tax that was previously required to accompany documents submitted pursuant to this IC:

• modifying item 1a, which will read: “Tax Paid. Submit tax payment of $200 for each machinegun or destructive device. The making tax may be paid by credit or debit card, check, money order, or through Pay.gov. (See instructions 2.c. and 3)”

• modifying item 1b, which will read: “Tax Paid. Tax payment of $0 for other types of firearms does not require completion of item 19.”

In addition, the Department is making the following changes to Form 1 in anticipation of upcoming regulatory changes, and to make the form easier to read, correct minor errors, and adjust for updated technology:

• revising the title to be more clear

• removing the photo box on the form to allow the option to attach either a passport-style photo or a copy of a photo identification document

• combining race/ethnicity items

• allowing additional types of electronic/digital signatures

• revising the fillable pdf form to link copy 1 and copy 2 so that copy 2 gets populated as the copy 1 is filled in, except for check boxes and signature

• adding references to eForms and pay.gov

• adding reference to the refund process

• removing the CLEO notification requirement and copy

• adding instructions for married couples jointly making, transferring, and registering a firearm, as an `other legal entity'

• correcting typographical/grammar items

• adding email addresses for different questions: nfa@atf.gov, ipb@atf.gov, & nfafax@atf.gov

Public Comments

ATF received one set of comments on this information collection. The commenter, a dealer in NFA firearms, submitted a joint comment on ICRs 1140-0011, 1140-0014, 1140-0015, and 1140-0107, expressing support for the changes ATF is making to ATF Form 5320.1 (“Form 1”) covered by this ICR, and Forms 5320.4, 5320.5, and 5320.23.

Comment Summary

Specifically, the commenter stated that removing the requirement to send a copy of the form to CLEOs was a welcome change and would alleviate concerns the commenter said CLEOs have about inadvertently creating a firearms registry in their office due to these forms. The commenter also advocated that all attempts to modernize the form, including allowing digital signatures, should be pursued and are also long overdue. Prohibiting digital signatures, the commenter added, imposes an unnecessary burden on applicants. The commenter also expressed support for the changes allowing a copy of photo IDs instead of requiring a 2″ x 2″ photograph and removing the requirement to submit fingerprints with each application, stating that neither requirement is needed even though required by statute.

ATF Response

ATF appreciates the feedback from this commenter on the proposed changes. It is helpful to receive feedback, positive or negative, from persons impacted by our processes so we can make them more user-friendly and efficient. In response to the commenter's suggestion that ATF should make all efforts to modernize these NFA forms, we think the following information will be helpful. The proposed changes to these forms reflect larger changes the agency is making to its NFA regulations and across other NFA forms, as well. These changes have been developing for some time and are projected to take effect during the next year. In addition to allowing electronic signatures, ATF is also making its NFA forms electronically fillable as the ICRs come up for renewal, and expects to move to solely electronic forms in 2026. In addition, NFA is continuing to build the rest of its forms into its eForms platform, so applicants can complete and submit the forms online.

If you need additional information, contact: Darwin Arceo, Department Clearance Officer, Policy and Planning Staff; Justice Management Division; United States Department of Justice; Two Constitution Square, 145 N Street NE, 4W-218, Washington, DC 20530.

Dated: October 28, 2025.
Darwin Arceo,
Department Clearance Officer for PRA, U.S. Department of Justice.

[FR Doc. 2025-19722 Filed 10-29-25; 8:45 am]

BILLING CODE 4410-FY-P